DEPARTMENT OF TRANSPORTATION

Federal Aviation Administration

14 CFR Part 39

[Docket No. FAA-2008-0216; Directorate Identifier 2008-CE-004-AD]

RIN 2120-AA64

Airworthiness Directives; Przedsiebiorstwo Doswiadczalno-Produkcyjne Szybownictwa “PZL-Bielsko” Model SZD-50-3 “Puchacz” Gliders

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

On the pre-flight check of a SZD-50-3 glider, the Right Hand (RH) wing airbrake was found impossible to retract. Investigation revealed that the occurrence was caused by a loose bolt of the “V” shape airbrake bellcrank, named hereafter intermediate control lever. The Left Hand (LH) wing lever also presented, to a lesser extent, a loose bolt.

The proposed AD would require actions that are intended to address the unsafe condition described in the MCAI.

DATES: We must receive comments on this proposed AD by March 27, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Greg Davison, Aerospace Engineer, FAA, Small Airplane Directorate, 901 Locust, Room 301, Kansas City, Missouri 64106; telephone: (816) 329-4130; fax: (816) 329-4090.

SUPPLEMENTARY INFORMATION:

Comments Invited

We invite you to send any written relevant data, views, or arguments about this proposed AD. Send your comments to an address listed under the ADDRESSES section. Include “Docket No. FAA-2008-0216; Directorate Identifier 2008-CE-004-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On January 14, 2008, we issued AD 2008-02-09, Amendment 39-15339 (73 FR 3623, January 22, 2008). That AD required actions intended to address an unsafe condition on the products listed above.

AD 2008-02-09 was issued as an interim action in order to address the need for the immediate inspection for loose attachment bolts in the left-hand and right-hand wing airbrake intermediate control lever requirement and replacement if loose attachment bolts were found.

The European Aviation Safety Agency (EASA), which is the Technical Agent for the Member States of the European Community, issued Emergency AD No. 2007-0275-E, dated October 24, 2007 (referred to after this as “the MCAI”), to correct an unsafe condition for the specified products.

The EASA AD allows for repetitive inspections at intervals not to exceed 100 hours time-in-service or 12 months, whichever occurs first after the initial inspection if no loose bolts are found. The EASA AD also requires replacing the split helical spring lock washers with tab washers and the M8x34 bolts with M8x32 bolts on both wings at the next 1,000-hour inspection after the effective date of the AD.

The Administrative Procedure Act does not permit the FAA to “bootstrap” a long-term requirement into an urgent safety of flight action where the rule becomes effective at the same time the public has the opportunity to comment. The short-term action and the long-term action were analyzed separately for justification to bypass prior public notice.

We are issuing this proposed AD to address the repetitive inspections and mandatory parts replacement issues.

Relevant Service Information

Allstar PZL Glider Sp. z o. o. has issued Service Bulletin No. BE-059/SZD-50-3/2007 “PUCHACZ,” dated October 15, 2007. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 6 products of U.S. registry. We also estimate that it would take about 1 work-hour per product to comply with the basic requirements of this proposed AD. The average labor rate is $80 per work-hour.

Based on these figures, we estimate the cost of the proposed AD on U.S. operators to be $480, or $80 per product.

In addition, we estimate that any necessary follow-on actions would take about 12 work-hours and require parts costing $40, for a cost of $1,000 per product.

The estimated total cost on U.S. Operators includes the cumulative costs associated with those airplanes affected by AD 2008-02-09.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15339 (73 FR 3623, January 22, 2008), and adding the following new AD:

Przedsiebiorstwo Doswiadczalno-Produkcyjne Szybownictwa “PZL-Bielsko”: Docket No. FAA-2008-0216; Directorate Identifier 2008-CE-004-AD.

Comments Due Date

(a) We must receive comments by March 27, 2008.

Affected ADs

(b) This AD supersedes AD 2008-02-09, Amendment 39-15339.

Applicability

(c) This AD applies to Model SZD-50-3 “Puchacz” gliders, all serial numbers up to and including B-2207, 503199327, 503A04001, 503A05002, and 503A05003, certificated in any category.

Subject

(d) Air Transport Association of America (ATA) Code 27: Flight Controls.

Reason

(e) The mandatory continuing airworthiness information (MCAI) states:

On the pre-flight check of a SZD-50-3 glider, the Right Hand (RH) wing airbrake was found impossible to retract. Investigation revealed that the occurrence was caused by a loose bolt of the “V” shape airbrake bellcrank, named hereafter intermediate control lever. The Left Hand (LH) wing lever also presented, to a lesser extent, a loose bolt.

This AD requires inspection of the LH and RH wing airbrake intermediate control levers for loose attaching bolts and subsequent repetitive inspections and corrective actions, as necessary. As a terminating action, replacement of the bolts and their associated washers is required.

These actions are intended to address the identified unsafe condition so as to prevent loss of the airbrake control system which could result in an inadvertent forced landing with consequent sailplane damage and/or passenger injury.

Requirements Retained From AD 2008-02-09

(f) Do the following unless already done:

(1) Within 10 days after February 1, 2008 (the effective date of AD 2008-02-09), inspect the left-hand (LH) and the right-hand (RH) wing airbrake intermediate control levers for loose attaching bolts following Allstar PZL Glider Sp. z o. o. Service Bulletin No. BE-059/SZD-50-3/2007 “PUCHACZ,” dated October 15, 2007.

(2) Before further flight after the inspection required in paragraph (f)(1) of this AD, if any loose bolt is found, replace the split helical spring lock washers with tab washers and replace the M8x34 bolts with M8x32 bolts on both wings following Allstar PZL Glider Sp. z o. o. Service Bulletin No. BE-059/SZD-50-3/2007 “PUCHACZ,” dated October 15, 2007. After doing this replacement, no further action is required by this AD.

New Requirements of This AD: Actions and Compliance

(g) If no loose bolts are found in the initial inspection required in paragraph (f)(1) of this AD, repetitively inspect thereafter at intervals not to exceed 100 hours time-in-service (TIS) or 12 months, whichever occurs first, until you are required to do the replacement in paragraph (h) or (i) of this AD. Do the inspection following Allstar PZL Glider Sp. z o. o. Service Bulletin No. BE-059/SZD-50-3/2007 “PUCHACZ,” dated October 15, 2007.

(h) If any loose bolt is found during any inspection required in paragraph (g) of this AD, before further flight replace the split helical spring lock washers with tab washers and replace the M8x34 bolts with M8x32 bolts on both wings following Allstar PZL Glider Sp. z o. o. Service Bulletin No. BE-059/SZD-50-3/2007 “PUCHACZ,” dated October 15, 2007. After doing this replacement, no further action is required by this AD.

(i) Within the next 1,000 hours TIS after the effective date of this AD, replace the split helical spring lock washers with tab washers and replace the M8x34 bolts with M8x32 bolts on both wings following Allstar PZL Glider Sp. z o. o. Service Bulletin No. BE-059/SZD-50-3/2007 “PUCHACZ,” dated October 15, 2007. After doing this replacement, no further action is required by this AD.

FAA AD Differences

Note: This AD differs from the MCAI and/or service information as follows: No differences.

Other FAA AD Provisions

(j) The following provisions also apply to this AD:

(1) Alternative Methods of Compliance (AMOCs): The Manager, Standards Office, FAA, has the authority to approve AMOCs for this AD, if requested using the procedures found in 14 CFR 39.19. Send information to ATTN: Greg Davison, Aerospace Engineer, FAA, Small Airplane Directorate, 901 Locust, Room 301, Kansas City, Missouri 64106; telephone: (816) 329-4130; fax: (816) 329-0409. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(k) Refer to MCAI European Aviation Safety Agency (EASA) Emergency AD No. 2007-0275-E, dated October 24, 2007; and Allstar PZL Glider Sp. z o. o. Service Bulletin No. BE-059/SZD-50-3/2007 “PUCHACZ,” dated October 15, 2007, for related information.

Issued in Kansas City, Missouri, on February 20, 2008.
Patrick R. Mullen,
Acting Manager, Small Airplane Directorate, Aircraft Certification Service.

[FR Doc. E8-3579 Filed 2-25-08; 8:45 am]

BILLING CODE 4910-13-P